DEPARTMENT OF THE INTERIOR

Bureau of Land Management

[NM-910-07-0777-XX]

New Mexico Resource Advisory Council, Notice of Call for Nominations

AGENCY: Bureau of Land Management, Department of the Interior.

ACTION: Notice of call for nominations.

SUMMARY: The purpose of this notice is to solicit public nominations for vacant positions on the Bureau of Land Management (BLM) New Mexico Resource Advisory Council (RAC). The RAC provides advice and recommendations to BLM on land use planning and management of the public lands within New Mexico. Public nominations will be considered until June 18, 2007.

SUPPLEMENTARY INFORMATION: The Federal Land Policy and Management Act (FLPMA) directs the Secretary of the Interior to involve the public in planning and issues related to management of land administered by BLM. Section 309 of FLPMA directs the Secretary to select a 15-member, citizen-based advisory councils that are established and authorized consistent with the requirements of the Federal Advisory Committee Act (FACA). As required by the FACA, RAC membership must be balanced and representative of the various interests concerned with the management of the public lands. There is one vacant position for the New Mexico RAC in Category 1 representing any holders of Federal grazing permits and representatives of energy and mineral development, timber industry, transportation or rights-of-way, off-highway vehicle use, and commercial recreation.

There are two vacancies in Category 2 representing nationally or regionally recognized environmental organizations, archaeological and historic interests, dispersed recreation, and wild horse and burro groups.

Individuals may nominate themselves or others. Nominees must be residents of New Mexico. Nominees should have demonstrated a commitment to collaborative resource decisionmaking. Letters of reference must accompany all nominations from represented interests or organizations, a completed background information nomination form, as well as any other information that speaks to the nominee's qualifications.

FOR FURTHER INFORMATION CONTACT: Theresa Herrera, New Mexico State Office, Office of External Affairs, Bureau of Land Management, P.O. Box 27115, Santa Fe, New Mexico 87502-0115, (505) 438-7517.

Dated: May 10, 2007.
Linda S.C. Rundell,
State Director.

[FR Doc. E7-9385 Filed 5-15-07; 8:45 am]

BILLING CODE 4310-FB-P